Title 3—

The President

Proclamation 10234 of July 26, 2021

Made in America Week, 2021

By the President of the United States of America

A Proclamation

Made in America Week recognizes a basic idea: when we spend taxpayer dollars, we should buy American products and support American jobs. The Congress passed the Buy American Act almost 90 years ago, but we have never fully lived up to this principle.

During Made in America Week, we recognize that just as American manufacturing was the Arsenal of Democracy in World War II, American products and services must be part of the engine of American prosperity today. We also reject the defeatist view that the forces of automation and globalization mean we cannot have good-paying union jobs here in America.

My Administration is making “Buy American” a policy, not just a promise. We are closing loopholes and strengthening standards to ensure that the future is made in all of America—by all of America's workers—in every region, of every background, in services, manufacturing, and agriculture.

That is why one of my first acts as President was to sign an Executive Order to tighten existing Buy American policies, and to lay out additional commitments to prevent big corporations and special interests from using loopholes to redirect American taxpayer dollars to foreign companies. And, I have named our Nation's first-ever Made in America Director at our Office of Management and Budget.

When we Buy American, we will buy from all of America. We will include communities that have historically been left out of Government procurement, Black, Brown, and Native American small businesses and entrepreneurs in every region of the country. We will use a federally funded, national network called the Manufacturing Extension Partnership to help government agencies connect with new domestic suppliers across the country.

The COVID-19 pandemic demonstrated our need for greater manufacturing capacity in areas critical to public health, information and communications technology, and national defense.

To build our economy back better, we must have an industrial strategy based on public investment in new technologies, including the domestic production of clean energy goods, critical medical supplies, and the innovative industries of the future. We must prioritize the creation of high skill, high value jobs that empower workers and pay family-supporting wages. We must reject short-termism, offshoring, and a race to the bottom. That is why my Administration is committed to using Made in America policies that give America's workers and companies the tools they need to compete and lead globally for decades to come.

We will send clear market signals so that entrepreneurs make the investments our Nation needs. We will ensure that Made in America preferences are applied consistently and transparently. We will gather data to reveal gaps in our industrial base, and work to close those gaps and boost our economy's productive capacity. And we will ensure that diversity, equity, inclusion, and accessibility are at the center of all of these efforts.

My Administration will maximize the Federal Government's use of goods, products, and materials produced in, and services offered in, the United States. These purchases will maximize our efforts to empower workers and strengthen unionization, tackle the climate crisis, and build and rebuild critical supply chains so that we will never again have to rely on imports from unreliable trading partners to combat threats to our public health.

We will also reduce the need for waivers from Made in America rules by creating incentives for private investment in domestic supply chains in critical industries.

As we focus on “Made in America,” we are committed to strengthening relationships with allies and trading partners. Resilient supply chains must have built in redundancies—a health crisis or natural disaster in one location must never again threaten the global economy. We must work with our trading partners to promote equitable growth, protect workers' rights, and advance environmental justice globally.

By using Made in America policies as one tool of many to rebuild our industrial base and strengthen critical supply chains, we will help put the American dream within reach for our Nation's families today, and for generations to come.

NOW, THEREFORE, I, JOSEPH R. BIDEN JR., President of the United States of America, by virtue of the authority vested in me by the Constitution and the laws of the United States, do hereby proclaim July 26 through July 30, 2021, as Made in America Week. I call upon all Americans to observe this week and to celebrate with appropriate programs, ceremonies, and activities.

IN WITNESS WHEREOF, I have hereunto set my hand this twenty-sixth day of July, in the year of our Lord two thousand twenty-one, and of the Independence of the United States of America the two hundred and forty-sixth.

[FR Doc. 2021-16301

Filed 7-28-21; 8:45 am]

Billing code 3295-F1-P